DEPARTMENT OF THE INTERIOR

Bureau of Land Management

[OR-026-1040-PH-021H: G6-0168]

Closure of Public Lands in Harney County, OR

AGENCY: Bureau of Land Management (BLM), Burns District, Hines, Oregon.

ACTION: Notice of Realty Action.

SUMMARY: Pursuant to 43 CFR 8364.1, this closure order is hereby given that public lands, described herein and managed by the BLM, located in Harney County, Oregon, are permanently closed to public use for the purpose of discharging firearms. This action is being taken to provide for public safety by establishing a no hunting zone around the community of Frenchglen, Oregon.

DATES: The closure order is effective July 16, 2006, and continues for perpetuity.

FOR FURTHER INFORMATION CONTACT: Karla Bird, Andrews Resource Area Field Manager, BLM, Burns District Office, 28910 Hwy 20 West, Hines, Oregon 97738, (541) 573-4400.

SUPPLEMENTARY INFORMATION: On June 15, 2006, the final decision was signed by an authorized officer of the BLM, permanently closing public lands, managed by the BLM, within one-quarter to one-half mile of Frenchglen, Oregon, to public use for the purpose of discharging firearms. During a temporary closure period, the BLM prepared an Environmental Assessment, OR-06-026-023, to consider a permanent closure. It was determined that the discharging of firearms within the “No Shooting or Safety Zone” is a safety hazard to the residents of the Frenchglen community.

Notice: Pursuant to 43 CFR 8364.1, discharging firearms or other devices capable of firing a projectile into or within the closed area posted “No Shooting or Safety Zone” is prohibited on lands administered by BLM within the closed area of Andrews Resource Area. The public lands, managed by the BLM, closed by this order are described as follows:

Willamette Meridian, Oregon

T. 32 S., R. 32 E.,

Sec. 2, lots 3 and 4, that portion lying east of transmission line, S½NW¼ east of transmission line, N½SW¼ north of Hwy 205, and the E½SW¼, SW¼SE¼ east of Elbow Springs Road.

The public land, managed by the BLM, described above contains 167 acres in Harney County, Oregon.

Closure signs have been posted at main entry points to the closed area and along the boundary as necessary. Maps of the closure area and information may be obtained from the BLM Burns District Office and at various locations in Burns, Hines, and Frenchglen.

Penalties: The authority of this closure is found under Section 303(a) of the Federal Land Policy and Management Act of 1976 (43 U.S.C. 1733(a)) and 43 CFR 8364.1. Any person who violates this closure may be tried before a United States Magistrate and fined no more than $1,000 or imprisoned for no more than 12 months, or both. (43 CFR 8360.0-7) Such violations may also be subject to the enhanced fines provided for by 18 U.S.C. 3571.

(Authority: 43 CFR 8364.1(c))

Dated: August 30, 2006.
Mark Sherbourne,
Acting Andrews Resource Area Field Manager.

[FR Doc. E6-18499 Filed 11-1-06; 8:45 am]

BILLING CODE 4310-33-P